DEPARTMENT OF COMMERCE

National Oceanic and Atmospheric Administration

RIN 0648-XA576

Marine Mammals; File No. 16472

AGENCY: National Marine Fisheries Service (NMFS), National Oceanic and Atmospheric Administration (NOAA), Commerce.

ACTION: Notice; receipt of application.

SUMMARY: Notice is hereby given that the NMFS Southwest Fisheries Science Center, Antarctic Ecosystem Research Division, La Jolla, California, (Responsible Party: George Watters, PhD, Director), has applied in due form for a permit to conduct research on marine mammals in the Antarctic.

DATES: Written, telefaxed, or e-mail comments must be received on or before August 19, 2011.

ADDRESSES: The application and related documents are available for review by selecting “Records Open for Public Comment” from the Features box on the Applications and Permits for Protected Species (APPS) home page, https://apps.nmfs.noaa.gov, and then selecting File No. 16472 from the list of available applications.

These documents are also available upon written request or by appointment in the following offices:

Permits, Conservation and Education Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Tammy Adams or Amy Sloan, (301) 427-8401.

SUPPLEMENTARY INFORMATION: The subject permit is requested under the authority of the Marine Mammal Protection Act of 1972, as amended (MMPA; 16 U.S.C. 1361 et seq.), and the regulations governing the taking and importing of marine mammals (50 CFR Part 216).

The applicant requests a five-year permit to take Antarctic fur seals (Arctocephalus gazella), southern elephant seals (Mirounga leonina), crabeater seals (Lobodon carcinophagus), leopard seals (Hydrurga leptonyx), Ross seals (Ommatophoca rossii), and Weddell seals (Leptonychotes weddellii) for life history studies and census surveys for abundance and distribution of pinnipeds in the South Shetland Islands, Antarctica, as part of a long-term ecosystem monitoring program established in 1986. The applicant also requests permission to import tissue samples collected from any animals captured and from salvaged carcasses of any species of pinniped or cetacean found in the study area.

The applicant requests annual capture of: 200 Antarctic fur seal adults and juveniles; 600 Antarctic fur seal pups; 50 leopard seal adults and juveniles; 50 southern elephant seal adults and juveniles; 100 southern elephant seal pups; 30 Weddell seal adults and juveniles; and 20 Weddell seal pups. Research on captured animals would include tissue sampling, attachment of scientific instruments, application of marks (flipper tags, hair bleach or dye), morphometric measurement, tooth extraction, and stomach content sampling. An additional 23,000 Antarctic fur seals, 1,100 southern elephant seals, 100 crabeater seals, 100 leopard seals, 200 Weddell seals, and 5 Ross seals would be taken annually by harassment during aerial and ground surveys, including behavioral observations and photo-identification. The applicant has requested an annual incidental mortality allowance of: 3 Antarctic fur seal adults or juveniles; 2 Antarctic fur seal pups; 2 leopard seal adults or juveniles; 2 southern elephant seal adults or juveniles; 2 southern elephant seal pups; 2 Weddell seal adults or juveniles; and 2 Weddell seal pups.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 13, 2011.
P. Michael Payne,
Chief, Permits, Conservation and Education Division, Office of Protected Resources, National Marine Fisheries Service.

[FR Doc. 2011-18326 Filed 7-19-11; 8:45 am]

BILLING CODE 3510-22-P